DEPARTMENT OF COMMERCE

National Oceanic and Atmospheric Administration

50 CFR Part 660

[Docket No. 021209300-3048-02; I.D. 062703A]

Fisheries off West Coast States and in the Western Pacific; Pacific Coast Groundfish Fishery; Annual Specifications and Management Measures; Trip Limit Adjustments

AGENCY: National Marine Fisheries Service (NMFS), National Oceanic and Atmospheric Administration (NOAA), Commerce.

ACTION: Inseason adjustments to trip limits and the trawl rockfish conservation area boundaries; correction to trawl rockfish conservation area boundaries; request for comments.

SUMMARY: NMFS announces changes to trip limits and the trawl rockfish conservation area (RCA) for the Pacific Coast groundfish fishery. Trip limit adjustments include changes to the limited entry trawl (Dover sole, thornyhead, sablefish) (DTS) limits coastwide and the limited entry fixed gear and open access minor nearshore rockfish limits coastwide. Changes to the trawl RCA during the months of July and August will restore nearshore fishing opportunities by moving the eastern boundary of the trawl RCA into deeper waters. For the trawl “A” platoon, trip limit adjustments and changes to the trawl RCA will be effective July 1, 2003. Inseason adjustments to trip limits and the trawl RCA for the trawl “B” platoon will be effective July 16, 2003. These actions, which are authorized by the Pacific Coast Groundfish Fishery Management Plan (FMP), will allow fisheries access to more abundant groundfish stocks while protecting overfished and depleted stocks.

DATES: Changes to management measures are effective 0001 hours (local time) July 1, 2003, until the 2004 annual specifications and management measures are effective, unless modified, superseded, or rescinded through a publication in the Federal Register. Comments on this rule will be accepted through July 31, 2003.

ADDRESSES: Submit comments to D. Robert Lohn, Administrator, Northwest Region, NMFS, 7600 Sand Point Way NE, Seattle, WA 98115-0070; or Rod McInnis, Acting Administrator, Southwest Region, NMFS, 501 West Ocean Blvd, Suite 4200, Long Beach, CA 90802-4213.

FOR FURTHER INFORMATION CONTACT: Carrie Nordeen or Jamie Goen (Northwest Region, NMFS), phone: 206-526-6140; fax: 206-526-6736; and e-mail: carrie.nordeen@noaa.gov or jamie.goen@noaa.gov.

SUPPLEMENTARY INFORMATION:

Electronic Access

This Federal Register document is available on the Government Printing Office′s website at: http://www.access.gpo.gov/su_docs/ca/docs/aces/aces140.html. Background information and documents are available at the NMFS Northwest Region website at: http://www.nwr.noaa.gov/1sustfsh/gdfsh01.htm and at the Pacific Fishery Management Council's website at: http://www.pcouncil.org.

Background

The Pacific Coast Groundfish FMP and its implementing regulations at 50 CFR part 660, subpart G, regulate fishing for over 80 species of groundfish off the coasts of Washington, Oregon, and California. Annual groundfish specifications and management measures are initially developed by the Pacific Fishery Management Council (Pacific Council), and are implemented by NMFS. The specifications and management measures for the 2003 fishing year (January 1 - December 31, 2003) were initially published in the Federal Register as an emergency rule for January 1 - February 28, 2003 (68 FR 908, January 7, 2003) and as a proposed rule for March 1 - December 31, 2003 (68 FR 936, January 7, 2003). The emergency rule was amended at 68 FR 4719, January 30, 2003, and the final rule for March 1 - December 31, 2003 was published in the Federal Register on March 7, 2003 (68 FR 11182). The final rule has been subsequently amended at 68 FR 18166 (April 15, 2003), at 68 FR 23901 (May 6, 2003), at 68 FR 23924 (May 6, 2003), and at 68 FR 32680 (June 2, 2003).

The following changes to current groundfish management measures were recommended by the Pacific Council, in consultation with Pacific Coast Treaty Tribes and the States of Washington, Oregon, and California, at its June 16-20, 2003, meeting in Foster City, CA. Pacific Coast groundfish landings will be monitored throughout the year, and further adjustments will be made as necessary to allow achievement of or avoid exceeding the 2003 optimum yields (OYs) and allocations.

Trawl Rockfish Conservation Area (RCA) North of 40°10′ N. Lat.

When the 2003 specifications and management measures were developed for the Pacific Coast groundfish fishery in the fall of 2002, the Pacific Council's Groundfish Management Team (GMT) developed a bycatch scorecard to project and track estimated mortality of overfished groundfish species during 2003. This scorecard is updated throughout the year as catch data become available. At the Pacific Council's June meeting, the scorecard was updated for canary rockfish, an overfished species, with catch data based on projected harvest under inseason adjustments for the May - June cumulative period, catch in Oregon's recreational fishery, catch under Washington's spiny dogfish shark and walleye pollock exempted fishing permits (EFPs), and information on vessel participation and target species by depth from 2002 fish tickets and logbooks. Based on these data, an additional 3.5 mt of canary rockfish is available to be harvested as incidental catch, in order to allow the access to more abundant species, during 2003 without exceeding the canary rockfish OY.

In order to provide additional fishing opportunity for the trawl fishery that has been severely restricted to reduce the incidental catch of canary rockfish, the size of the trawl RCA (the area closed to most fishing with trawl gear) is being decreased during the months of July and August. At their April 7-11, 2003, meeting in Vancouver, WA, the Pacific Council recommended that preliminary observer-based trawl bycatch rates be incorporated into the bycatch model used to develop inseason adjustments to trip limits and area closures. These observer-based trawl bycatch rates indicated that canary rockfish bycatch in the trawl fishery north of 40°10′ N. lat. is higher than previously estimated. Based on that new information, in May 2003, the trawl RCA was shifted to better align with areas where canary rockfish were encountered (between latitude and longitude coordinates that approximate the 50-fm (91-m) and 200-fm (366-m) depth contours) to slow that catch of canary rockfish. Using 2.85 mt (2,850 kg) of the additional 3.5 mt (3,500 kg) of canary rockfish available for harvest during 2003, this inseason action will restore trawl fishing opportunity by returning the eastern trawl RCA boundary to latitude and longitude coordinates approximating the 75-fm (137-m) depth contour. In addition to providing fishing opportunity, moving the eastern trawl RCA boundary out into deeper waters during July and August is expected to decrease interactions between the trawl fleet and molting, soft-shelled Dungeness crab found shoreward of 50-fm (91-m). In short, during the months of July and August, the trawl RCA will extend between latitude and longitude coordinates approximating the 75-fm (137-m) and 200-fm (366-m) depth contours. During the months of September - December, the trawl RCA will remain as previously scheduled, extending between coordinates approximating the 50-fm (91-m) and 200-fm (366-m) depth contours, with a western boundary modified to incorporate petrale fishing areas during November and December.

In the final rule announcing Pacific Coast annual specifications and management measures for March - December (68 FR 11182, March 7, 2003), a correction was made to the 75-fm (137-m) RCA boundary to prevent it from intersecting with the 100-fm (183-m) RCA boundary north of 40°10′ N. lat. This correction proved to be too coarse, resulting in the 75-fm (137-m) RCA boundary not closely following the 75-fm (137-m) depth contour in one section of the coast off Washington. Therefore, this inseason action will also correct the 75-fm (137-m) RCA boundary to better align it with the 75-fm (137-m) depth contour.

Limited Entry Trawl Limits for the DTS (Dover Sole, Thornyhead, Sablefish) Fishery Coastwide

In an effort to provide for fishing opportunity along the coast while keeping groundfish species within their respective 2003 OYs, the Pacific Council recommended trip limit adjustments for the DTS fishery. The GMT and the Pacific Council's Groundfish Advisory Panel (GAP) weighed the expected catch of canary rockfish and DTS species associated with previously scheduled DTS trip limits and RCA boundaries against the expected catch of canary rockfish and DTS species associated with moving the eastern boundary of the trawl RCA south of 40°10′ N. lat. into deeper water (discussed below) when making DTS trip limit adjustments. Their goal was to provide adequate fishing opportunity while keeping the harvest of DTS species on track for the year and keeping the total mortality of canary rockfish within amounts forecast in the bycatch scorecard and within the canary rockfish OY.

Landed catch data through May 24, 2003, indicate that sablefish trawl catch was at 28 percent of the annual target with greater than 50 percent forecast to be taken within the last half of the year. There is a great deal of uncertainty in observer-based discard rates for sablefish. Should the final analysis of the observer-based discard rates result in higher estimates being used in 2003, the calculated harvest of sablefish may be greater than currently projected. Because new observer data will be available in September, the Pacific Council chose to slow the catch of sablefish during July and August, to ensure harvest opportunities through the end of the year, with the intent of increasing sablefish trawl trip limits later in the year, if possible. Therefore, the limited entry trawl sablefish limit north of 40°10′ N. lat. is decreased from the previously scheduled limit of 10,000 lb (4,536 kg) per 2 months to 9,000 lb (4,082 kg) per 2 months, providing that only large footrope or midwater trawl gear is used to land any groundfish species during the entire limit period. The limited entry small footrope trawl sablefish limit, (i.e., if small footrope gear is used at any time in any area (north or south, seaward or shoreward of the RCA) during the entire limit period) remains unchanged at 3,000 lb (1,361 kg) per 2 months. South of 40°10′ N. lat., the limited entry trawl sablefish limit is decreased from the previously scheduled limit of 12,000 lb (5,443 kg) per 2 months to 9,000 lb (4,082 kg) per 2 months.

Landed catch data through May 24, 2003, indicate that Dover sole catch was at 38 percent of the annual target. North of 40°10′ N. lat., the Pacific Council recommended that Dover sole trip limits increase to allow for Dover sole retention by those vessels fishing seaward of the RCA. South of 40°10′ N. lat., Dover sole limits were previously scheduled to increase during July and August in compensation for lack of nearshore fishing opportunity. Because nearshore fishing opportunity was restored by moving the eastern trawl RCA boundary into deeper water, Dover sole trip limits were decreased to minimize the incidental catch of overfished species. Therefore, the limited entry trawl Dover sole limit north of 40°10′ N. lat. is increased from the previously scheduled limit of 31,000 lb (14,061 kg) per 2 months to 34,000 lb (15,513 kg) per 2 months, providing that only large footrope or midwater trawl gear is used to land any groundfish species during the entire limit period. The limited entry small footrope trawl Dover sole limit, (i.e., if small footrope gear is used at any time in any area (north or south, seaward or shoreward of the RCA) during the entire limit period) remains unchanged at 12,500 lb (5,670 kg) per 2 months. South of 40°10′ N. lat., the limited entry trawl Dover sole limit is decreased from the previously scheduled limit of 35,000 lb (15,876 kg) per 2 months to 34,000 lb (15,513 kg) per 2 months.

Landed catch data indicate that shortspine thornyhead catch is higher than expected (44 percent of the annual target through May 24, 2003). Shortspine thornyhead is a long-lived species that cannot sustain aggressive harvest rates. This makes it a constraining species for the DTS complex fishery, because coincidental catch of shortspine thornyhead may prevent the harvest of Dover sole and longspine thornyhead. In order to keep the shortspine thornyhead catch within its 2003 OY while allowing for shortspine thornyhead retention during pursuit of sablefish or Dover sole with small footrope trawl gear, the Pacific Council recommended an adjustment to shortspine thornyhead trip limits. Therefore, the limited entry trawl shortspine thornyhead limit north of 40°10′ N. lat. is decreased from the previously scheduled limit of 2,800 lb (1,270 kg) per 2 months to 2,400 lb (1,089 kg) per 2 months, providing that only large footrope or midwater trawl gear is used to land any groundfish species during the entire limit period. The limited entry small footrope trawl shortspine thornyhead limit, (i.e., if small footrope gear is used at any time in any area (north or south, seaward or shoreward of the RCA) during the entire limit period) is increased from the previously scheduled zero retention limit to 1,000 lb (454 kg) per 2 months. South of 40°10′ N. lat., the limited entry trawl shortspine thornyhead limit is decreased from the previously scheduled limit of 3,100 lb (1,406 kg) per 2 months to 2,400 lb (1,089 kg) per 2 months.

Landed catch data through May 24, 2003, indicate that longspine thornyhead catch was at 32 percent of the annual target. Because of the coincidental catch of shortspine thornyhead with longspine thornyhead in combination with moving the eastern boundary of the trawl RCA into deeper water during July and August, the catch ratio of shortspine to longspine thornyheads is expected to increase. In response to reduced trip limits for shortspine thornyhead and the need to maintain the catch ratio of 5 lb (2.27 kg) longspine thornyhead to 1 lb (0.45 kg) shortspine thornyhead, the Pacific Council also recommended an adjustment in longspine thornyhead trip limits. Therefore, the limited entry trawl longspine thornyhead limit north of 40°10′ N. lat. is decreased from the previously scheduled limit of 14,000 lb (6,350 kg) per 2 months to 11,500 lb (5,216 kg) per 2 months, providing that only large footrope or midwater trawl gear is used to land any groundfish species during the entire limit period. The limited entry small footrope trawl longspine thornyhead limit, (i.e., if small footrope gear is used at any time in any area (north of south, seaward or shoreward of the RCA) during the entire limit period) is increased from the previously scheduled zero retention limit to 5,000 lb (2,268 kg) per 2 months. South of 40°10′ N. lat., the limited entry trawl longspine thornyhead limit is decreased from the previously scheduled limit 16,000 lb (7,257 kg) per 2 months to 11,500 lb (5,216 kg) per 2 months.

Limited Entry Fixed Gear and Open Access Minor Nearshore Rockfish Limits North of 40°10′ N. Lat.

Landed catch of nearshore rockfish in the limited entry fixed gear and open access fisheries off northern California is lower than anticipated through May 24, 2003. In an effort to enable the northern California fishery to achieve its nearshore rockfish harvest guideline, the trip limits for minor nearshore rockfish are increased from the previously scheduled limit of 3,000 lb (1,361 kg) per 2 months, no more than 900 lb (408 kg) of which may be species other than black or blue rockfish, to 4,000 lb (1,814 kg) per 2 months, no more than 1,200 lb (544 kg) of which may be species other than black or blue rockfish. This trip limit increase is consistent with Oregon′s plans to proceed toward their nearshore rockfish catch cap. However, because the Oregon fishery is proceeding on schedule with their harvest of black and blue rockfish, this trip limit increase may require Oregon to take independent, State action at a later date to constrain their nearshore rockfish fishery in order to stay within their black rockfish catch cap.

Limited Entry Fixed Gear and Open Access Minor Nearshore Rockfish Limits South of 40°10′ N. Lat.

Because landings of minor nearshore rockfish south of 40°10′ N. lat. are higher than expected, there is concern whether this fishery will remain open the entire year. In order to ensure fishing opportunity later in the year, when market values for nearshore rockfish species are high, the Pacific Council recommended a decrease in the shallow nearshore rockfish limit. Therefore, the limited entry fixed gear and open access shallow minor nearshore rockfish limit south of 40°10′ N. lat. is decreased during the months of July and August from the previously scheduled limit of 500 lb (227 kg) per 2 months to 400 lb (181 kg) per 2 months. During the months of September and October, the limited entry fixed gear and open access shallow minor nearshore rockfish limit south of 40°10′ N. lat. is similarly decreased from the previously scheduled limit of 400 lb (181 kg) per 2 months to 300 lb (136 kg) per 2 months.

Landings of deeper nearshore rockfish species are not accumulating as rapidly as the landings of shallow nearshore rockfish. In order to keep landings on track for the year and provide harvest opportunity during summer months when participation in this fishery is high, the Pacific Council recommended that deeper nearshore rockfish trip limits be increased. Therefore, the limited entry fixed gear and open access deeper minor nearshore rockfish limit south of 40°10′ N. lat. is increased during the months of July and August from the previously scheduled limit of 400 lb (181 kg) per 2 months to 500 lb (227 kg) per 2 months. During the months of September and October, the limited entry fixed gear and open access deeper minor nearshore rockfish limit south of 40°10′ N. lat. is similarly increased from the previously scheduled limit of 200 lb (91 kg) per 2 months to 300 lb (136 kg) per 2 months.

Trawl Rockfish Conservation Area (RCA) South of 40°10′ N. Lat.

In exchange for higher limited entry trawl DTS trip limits scheduled during May - August 2003, the trawl RCA was scheduled to extend from the shoreline to latitude and longitude coordinates approximating the 200-fm (366-m) depth contour during the months of July and August. This scheduled placement of the RCA was designed to reduce nearshore fishing opportunity during those months, thereby, slowing the incidental catch of overfished rockfish species (bocaccio and canary rockfish). However, based on Pacific Council actions at their June meeting, this scheduled reduction of nearshore fishing opportunity will not be necessary for three reasons. The first reason is that an adequate amount of canary rockfish was made available on the Pacific Council′s bycatch scorecard, as discussed above, to accommodate a modest nearshore fishing opportunity (expected to result in an additional 0.05 mt (500 kg) of catch) while still remaining within the canary rockfish OY. The second reason is that the GMT and GAP agreed to reduce limited entry trawl DTS trip limits coastwide from the previously scheduled limits, during the months of July and August, to allow for this additional nearshore fishing opportunity. The third reason is that an adequate amount of bocaccio was available on the bycatch scorecard to allow for this adjustment, which is expected to result in an additional 0.8 mt (800 kg) of catch. Therefore, the eastern boundary of the trawl RCA will move from the shoreline to latitude and longitude coordinates that approximate the 60-fm (110-m) depth contour between 40°10′ N. lat. and 34°27′ N. lat. and the 100-fm (183-m) depth contour between 34°27′ N. lat. and the U.S. boundary with Mexico for the months of July and August. Therefore, during the months of July and August, the trawl RCA between 40°10′ N. lat. and 34°27′ N. lat. will extend between latitude and longitude coordinates that approximate the 60-fm (110-m) and 200-fm (366- m) depth contours, and the trawl RCA between 34°27′ N. lat. and the U.S. border with Mexico will extend between latitude and longitude coordinates that approximate the 100-fm (183-m) and 200-fm (366-m) depth contours. The trawl RCA around southern California islands and seamounts will remain as previously scheduled, extending between the shoreline and latitude and longitude coordinates that approximate the 200-fm (366-m) depth contour. During the months of September - December, the trawl RCA will remain as previously scheduled, extending between eastern boundary coordinates approximating either the 60-fm (110- m) or 100-fm (183-m) depth contour and western boundary coordinates approximating the 200-fm (366-m) depth contour, with a western boundary for limited entry trawl modified to incorporate petrale fishing areas during November and December.

Non-Trawl Rockfish Conservation Area (RCA) and Recreational Fisheries Boundary South of 40°10′ N. Lat.

During 2003, the limited entry fixed gear fleet in California has been severely constrained by low trip limits and limited nearshore fishing opportunities, with the non-trawl RCA (the area closed to most fishing with non-trawl gear) extended from the 20-fm (37-m) depth contour to latitude and longitude coordinates approximating the 150-fm (274-m) depth contour. These management measures were designed to limit the incidental take of bocaccio rockfish and keep the catch of bocaccio within is 2003 OY of less than 20 mt (20,000 kg). The recreational fishing fleet in California has been similarly constrained, by a reduced season length (July - December) and limited nearshore fishing opportunities, generally shoreward of the 20-fm (37-m) depth contour, to minimize the incidental take of bocaccio. Based on a new stock assessment and rebuilding analysis that was available at the June meeting, the Pacific Council adopted a range of rebuilding OYs (199 mt (199,000 kg) to 526 mt (526,000kg)) for bocaccio in 2004. Taking into account this more recent stock assessment information (as compared with the OY of less than 20 mt (20,000 kg) for 2003) and the economic hardship resulting from restrictive management measures necessary to keep the incidental catch of bocaccio within its 2003 OY, the California Department of Fish and Game (CDFG) proposed to the Pacific Council that the 2003 bocaccio OY be flexible enough to allow for a modest increase in nearshore fishing opportunity. Specifically, CDFG proposed that during the months of September - December the eastern boundary for the non-trawl RCA and recreational fisheries between 34°27′ N. lat. and the U.S. border with Mexico be moved from the 20 fm (37 m) depth contour out to the 30 fm (55 m) depth contour. This boundary change was recommended by the Pacific Council because it would provide much needed harvest opportunity and economic relief for limited entry fixed gear and recreational fishers with an expected incidental take of an additional 2.22 mt (2,220 kg) of bocaccio. The projected incidental take of bocaccio associated with moving the eastern trawl RCA boundary (the portion south of 40°10′ N. lat.) into deeper water during July and August, as discussed earlier and implemented with this Federal Register document, is not expected to result in the total mortality of bocaccio exceeding its 2003 OY. However, the projected catch associated with changing the eastern boundary of the trawl RCA in combination with the projected incidental catch of 2.22 mt (2,200 kg) associated with moving the eastern non-trawl RCA/recreational boundary (the portion south of 34°27′ N. lat.) into deeper water during September - December, is expected to result in the bocaccio total mortality exceeding the 2003 bocaccio OY by approximately 2 mt (2,000 kg). Because of the additional complexities of this proposal, and because it does not need to be implemented on July 1, NMFS is not implementing the eastern non-trawl RCA and/or recreational fishing boundary change with this Federal Register document so as not to delay the July 1 inseason adjustment. However, NMFS is considering CDFG′s request and the Pacific Council′s recommendation and any action to change the eastern non-trawl RCA/recreational boundary to accommodate CDFG′s request and the Pacific Council′s recommendation will occur in a future action published in the Federal Register.

NMFS Actions

For the reasons stated herein, NMFS concurs with the Pacific Council's recommendations implemented herein and hereby announces the following changes to the 2003 management measures (68 FR 11182, March 7, 2003, as amended at 68 FR 18166, April 15, 2003, at 68 FR 23901, May 6, 2003, at 68 FR 23925, May 6, 2003, and at and at 68 FR 32680, June 2, 2003) to read as follows:

1. On page 11206, in section IV., under A. General Definitions and Provisions, paragraph (19)(e)(ii) is revised to read as follows:

(ii) The 75 fm (137 m) depth contour used north of 40°10′ N. lat. as an eastern boundary for the trawl RCA is defined by straight lines connecting all of the following points in the order stated:

(1) 48°16.08′ N. lat., 125°34.90′ W. long.;

(2) 48°14.50′ N. lat., 125°29.50′ W. long.;

(3) 48°12.08′ N. lat., 125°28.00′ W. long.;

(4) 48°09.00′ N. lat., 125°28.00′ W. long.;

(5) 48°07.80′ N. lat., 125°31.70′ W. long.;

(6) 48°04.28′ N. lat., 125°29.00′ W. long.;

(7) 48°02.50′ N. lat., 125°25.70′ W. long.;

(8) 48°10.00′ N. lat., 125°20.19′ W. long.;

(9) 48°21.70′ N. lat., 125°17.56′ W. long.;

(10) 48°23.12′ N. lat., 125°10.25′ W. long.;

(11) 48°21.99′ N. lat., 125°02.59′ W. long.;

(12) 48°23.05′ N. lat., 124°48.80′ W. long.;

(13) 48°17.10′ N. lat., 124°54.82′ W. long.;

(14) 48°05.10′ N. lat., 124°59.40′ W. long.;

(15) 48°04.50′ N. lat., 125°02.00′ W. long.;

(16) 48°04.70′ N. lat., 125°04.08′ W. long.;

(17) 48°05.20′ N. lat., 125°04.90′ W. long.;

(18) 48°06.80′ N. lat., 125°06.15′ W. long.;

(19) 48°05.91′ N. lat., 124°08.30′ W. long.;

(20) 48°07.00′ N. lat., 124°09.80′ W. long.;

(21) 48°06.93′ N. lat., 124°11.48′ W. long.;

(22) 48°04.98′ N. lat., 124°10.02′ W. long.;

(23) 47°54.00′ N. lat., 125°04.98′ W. long.;

(24)47°44.52′ N. lat., 125°00.00′ W. long.;

(25)47°42.00′ N. lat., 124°58.98′ W. long.;

(26)47°35.52′ N. lat., 124°55.50′ W. long.;

(27)47°22.02′ N. lat., 124°44.40′ W. long.;

(28)47°16.98′ N. lat., 124°45.48′ W. long.;

(29)47°10.98′ N. lat., 124°48.48′ W. long.;

(30)47°04.98′ N. lat., 124°49.02′ W. long.;

(31)46°57.98′ N. lat., 124°46.50′ W. long.;

(32)46°54.00′ N. lat., 124°45.00′ W. long.;

(33)46°48.48′ N. lat., 124°44.52′ W. long.;

(34)46°40.02′ N. lat., 124°36.00′ W. long.;

(35)46°34.09′ N. lat., 124°27.03′ W. long.;

(36)46°24.64′ N. lat., 124°30.33′ W. long.;

(37)46°19.98′ N. lat., 124°36.00′ W. long.;

(38) 46°18.14′ N. lat., 124°34.26′ W. long.;

(39) 46°18.72′ N. lat., 124°22.68′ W. long.;

(40) 46°14.64′ N. lat., 124°22.54′ W. long.;

(41) 46°11.08′ N. lat., 124°30.74′ W. long.;

(42) 46°04.28′ N. lat., 124°31.49′ W. long.;

(43) 45°55.97′ N. lat., 124°19.95′ W. long.;

(44) 45°44.97′ N. lat., 124°15.96′ W. long.;

(45) 45°43.14′ N. lat., 124°21.86′ W. long.;

(46) 45°34.44′ N. lat., 124°14.44′ W. long.;

(47) 45°15.49′ N. lat., 124°11.49′ W. long.;

(48) 44°57.31′ N. lat., 124°15.03′ W. long.;

(49) 44°43.90′ N. lat., 124°28.88′ W. long.;

(50) 44°28.64′ N. lat., 124°35.67′ W. long.;

(51) 44°25.31′ N. lat., 124°43.08′ W. long.;

(52) 44°17.15′ N. lat., 124°47.98′ W. long.;

(53) 44°13.67′ N. lat., 124°54.41′ W. long.;

(54) 43°56.85′ N. lat., 124°55.32′ W. long.;

(55) 43°57.50′ N. lat., 124°41.23′ W. long.;

(56) 44°01.79′ N. lat., 124°38.00′ W. long.;

(57) 44°02.16′ N. lat., 124°32.62′ W. long.;

(58) 43°58.15′ N. lat., 124°30.39′ W. long.;

(59) 43°53.25′ N. lat., 124°31.39′ W. long.;

(60) 43°35.56′ N. lat., 124°28.17′ W. long.;

(61) 43°21.84′ N. lat., 124°36.07′ W. long.;

(62) 43°19.73′ N. lat., 124°34.86′ W. long.;

(63) 43°09.38′ N. lat., 124°39.30′ W. long.;

(64) 43°07.11′ N. lat., 124°37.66′ W. long.;

(65) 42°56.27′ N. lat., 124°43.29′ W. long.;

(66) 42°45.00′ N. lat., 124°41.50′ W. long.;

(67) 42°39.72′ N. lat., 124°39.11′ W. long.;

(68) 42°32.88′ N. lat., 124°40.13′ W. long.;

(69) 42°32.30′ N. lat., 124°39.04′ W. long.;

(70) 42°26.96′ N. lat., 124°44.31′ W. long.;

(71) 42°24.11′ N. lat., 124°42.16′ W. long.;

(72) 42°21.10′ N. lat., 124°35.46′ W. long.;

(73) 42°14.72′ N. lat., 124°32.30′ W. long.;

(74) 42°09.24′ N. lat., 124°32.04′ W. long.;

(75) 42°01.89′ N. lat., 124°32.70′ W. long.;

(76) 42°00.03′ N. lat., 124°32.02′ W. long.;

(77) 42°00.00′ N. lat., 124°32.02′ W. long.;

(78) 41°46.18′ N. lat., 124°26.60′ W. long.;

(79) 41°29.22′ N. lat., 124°28.04′ W. long.;

(80) 41°09.62′ N. lat., 124°19.75′ W. long.;

(81) 40°50.71′ N. lat., 124°23.80′ W. long.;

(82) 40°43.35′ N. lat., 124°29.30′ W. long.;

(83) 40°40.24′ N. lat., 124°29.86′ W. long.;

(84) 40°37.50′ N. lat., 124°28.68′ W. long.;

(85) 40°34.42′ N. lat., 124°29.65′ W. long.;

(86) 40°34.74′ N. lat., 124°34.61′ W. long.;

(87) 40°31.70′ N. lat., 124°37.13′ W. long.;

(88) 40°25.03′ N. lat., 124°34.77′ W. long.;

(89) 40°23.58′ N. lat., 124°31.49′ W. long.;

(90) 40°23.64′ N. lat., 124°28.35′ W. long.;

(91) 40°22.53′ N. lat., 124°24.76′ W. long.;

(92) 40°21.46′ N. lat., 124°24.86′ W. long.;

(93) 40°21.74′ N. lat., 124°27.63′ W. long.;

(94) 40°19.76′ N. lat., 124°28.15′ W. long.;

(95) 40°18.00′ N. lat., 124°25.38′ W. long.;

(96) 40°18.54′ N. lat., 124°22.94′ W. long.;

(97) 40°15.55′ N. lat., 124°25.75′ W. long.;

(98) 40°16.06′ N. lat., 124°30.48′ W. long.;

(99) 40°15.75′ N. lat., 124°31.69′ W. long.; and

(100) 40°10.00′ N. lat., 124°21.28′ W. long.

* * * * *

2. On pages 11218-11221, in section IV., under B. Limited Entry Fishery, at the end of paragraph (1), Table 3 (North), Table 3 (South, Table 4 (North), and Table 4 (South) are revised to read as follows:

IV. NMFS Actions

B. Limited Entry Fishery

(1) * * *

BILLING CODE 3510-22-S

3. On page 11225, in section IV., under C. Trip Limits in the Open Access Fishery, at the end of paragraph (1), Table 5 (South) is revised to read as follows:

IV. NMFS Actions

C. Trip Limits in the Open Access Fishery

(1) * * *

BILLING CODE 3510-22-C

* * * * *

Classification

These actions are authorized by the Pacific Coast groundfish FMP and its implementing regulations, and are based on the most recent data available. The aggregate data upon which these actions are based are available for public inspection at the Office of the Administrator, Northwest Region, NMFS, (see ADDRESSES) during business hours.

The Assistant Administrator for Fisheries (AA), NMFS, finds good cause to waive the requirement to provide prior notice and opportunity for public comment on this action pursuant to 5 U.S.C. 553(b)(B), because providing prior notice and opportunity for comment would be impracticable. It would be impracticable because the cumulative trip limit period for the Pacific Coast groundfish fishery begins July 1, 2003, and affording prior notice and opportunity for public comment would impede the Agency′s function of managing fisheries to approach without exceeding the OYs for federally managed species. The trip limit adjustments in this document include both increases and decreases from previously scheduled trip limits, along with simultaneous shifts in the closed areas, or RCAs. Trip limit decreases must be implemented in a timely manner to protect overfished groundfish species and slow the harvest of other groundfish species, thereby, ensuring harvesting opportunities throughout the remainder of the year. Additionally, trip limit increases and shifts to the RCA are intended to allow harvest opportunity for fisheries targeting more abundant groundfish stocks with little or no impact on overfished stocks. Because the Pacific Coast groundfish fishery is managed by trip limits and area closures, most of which are based on a 2 month cumulative period (January-February, March-April, May-June, July-August, September-October, November-December), these actions should be implemented by the beginning of the next cumulative trip limit period (July 1, 2003) otherwise, for species for which the trip limits are being reduced, fishers may be able to take the entire two-month cumulative limit before the new lower limits are in place, thereby eliminating the conservation benefit anticipated from the lower trip limits in July and August. The increases to trip limits and reductions to the RCA in this inseason action allow fishers to access groundfish allocations without exceeding the OY for those species or the OYs of overfished or depleted stocks and delaying the increase could prevent the industry from obtaining the intended benefit of increased harvest opportunity. In addition, the affected public had the opportunity to comment on these actions at the June 16 20, 2003, Pacific Council meeting. For these reasons, good cause also exists to waive the 30 day delay in effectiveness requirement under 5 U.S.C. 553 (d)(3). In addition, the increased trip limits and reduced RCAs relieve restrictions by providing greater harvest opportunities than were previously scheduled for the July - August period and thus they are not subject to a 30 day delay in effectiveness under 5 U.S.C. 553(d)(1).

These actions are taken under the authority of 50 CFR 300.63(a)(3) and 660.323(b)(1), and are exempt from review under Executive Order 12866.

Authority: 16 U.S.C. 1801 et seq.

Dated: July 1, 2003.
Bruce C. Morehead,
Acting Director, Office of Sustainable Fisheries, National Marine Fisheries Service.

[FR Doc. 03-17058 Filed 7-1-03; 3:46 pm]

BILLING CODE 3510-22-S